DEPARTMENT OF VETERANS AFFAIRS

[OMB Control No. 2900-0588]

Proposed Information Collection (Acquisition Regulation (VAAR) Provision 852.211-71, Special Notice); Activity: Comment Request

AGENCY: Office of Acquisition and Logistics, Department of Veterans Affairs.

ACTION: Notice.

SUMMARY: In compliance with the Paperwork Reduction Act (PRA) of 1995 (44 U.S.C. 3501-3521), the Office of Acquisition and Logistics (OAL), Department of Veterans Affairs (VA), will submit the collection of information abstracted below to the Office of Management and Budget (OMB) for review and comment. The PRA submission describes the nature of the information collection and its expected cost and burden; it includes the actual data collection instrument.

DATES: Comments must be submitted on or before September 26, 2016.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0588” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov . Please refer to “OMB Control No. 2900-0588.”

SUPPLEMENTARY INFORMATION:

Title: Veterans Affairs Acquisition Regulation (VAAR) Provision 852.211-71, Special Notice.

OMB Control Number: 2900-0588.

Type of Review: Extension without change of a previously approved collection.

Abstract: VAAR provision 852.211-71 is used only in VA's telephone system acquisition solicitations and requires the contractor, after award of the contract, to submit descriptive literature on the equipment the contractor intends to furnish to show how that equipment meets the specification requirements of the solicitation. The information is needed to ensure that the equipment proposed by the contractor meets the specification requirements. Failure to require the information could result in the installation of equipment that does not meet contract requirements, with significant loss to the contractor if the contractor subsequently had to remove the equipment and furnish equipment that did meet the specification requirements. The contracting officer will use the information to evaluate whether or not the item offered meets the specification requirements.

Affected Public: Private Sector—Business or other for-profit and not-for-profit institutions.

Estimated Annual Burden: 875 hours.

Estimated Average Burden per Respondent: 300 minutes.

Frequency of Response: On occasion.

Estimated Number of Respondents: 175.

By direction of the Secretary.
Cynthia Harvey-Pryor,
Program Specialist, Office of Privacy and Records Management, Department of Veterans Affairs.

[FR Doc. 2016-20343 Filed 8-24-16; 8:45 am]

BILLING CODE 8320-01-P